NUCLEAR REGULATORY COMMISSION

[Docket No. 70-3103-ML; ASLBP No. 04-826-01-ML]

Atomic Safety and Licensing Board; Before Administrative Judges: G. Paul Bollwerk, III, Chairman, Dr. Paul B. Abramson, Dr. Charles N. Kelber; In the Matter of Louisiana Energy Services, L.P. (National Enrichment Facility); Notice of Hearing and of Opportunity To Make Oral or Written Limited Appearance Statements

January 26, 2006.

The Atomic Safety and Licensing Board hereby gives notice that it will convene an evidentiary session to receive testimony and exhibits in the “mandatory hearing” portion of this proceeding regarding the December 2003 application of Louisiana Energy Services, L.P., (LES) for a license under 10 CFR part 70 to construct and operate a uranium enrichment facility—the National Enrichment Facility (NEF)—to be constructed near Eunice, New Mexico. This mandatory hearing will concern safety and environmental matters other than those being litigated in the ongoing “contested” hearing that pertains to admitted issues proffered by intervening parties regarding the LES application. In addition, the Board gives notice that, in accordance with 10 CFR 2.315(a), it will entertain oral limited appearance statements from members of the public in connection with this proceeding.

A. Date, Time, and Location of Mandatory Hearing

The Board will conduct a mandatory hearing regarding the sufficiency of the LES application and NRC staff's environmental findings relative to the LES application,¹ beginning at 9 a.m., Mountain Standard Time (MST) on Monday, March 6, 2006, at the New Mexico Junior College, Moran Building Multi-Purpose Room, 5317 Lovington Highway, Hobbs, New Mexico. The hearing on these issues will continue day-to-day until concluded.

¹ LES and the staff will be parties to the mandatory hearing and will present witnesses and evidentiary material.

The public is advised that, in accordance with 10 CFR 2.390, portions of the hearing sessions may be closed to the public because the matters at issue may involve the discussion of protected information.

B. Date, Time, and Location of Oral Limited Appearance Statement Sessions

These sessions will be on the following date at the specified location and times:

1. Date: Sunday, March 5, 2006.

Time: Afternoon Session (if there is sufficient interest)—3 to 5 p.m. MST.

Location: New Mexico Junior College, Moran Building Multi-Purpose Room, 5317 Lovington Highway, Hobbs, New Mexico.

2. Date: Monday, March 6, 2006.

Time: Evening Session (if there is sufficient interest)—7 to 9 p.m. MST.

Location: Same as Session 1 above.

C. Participation Guidelines for Oral Limited Appearance Statements

Any person not a party, or the representative of a party, to the proceeding will be permitted to make an oral statement setting forth his or her position on matters of concern relating to this proceeding. Although these statements do not constitute testimony or evidence, they nonetheless may help the Board and/or the parties in their consideration of the issues in this proceeding.

Oral limited appearance statements will be entertained during the hours specified above, or such lesser time as may be necessary to accommodate the speakers who are present.² In this regard, if all scheduled and unscheduled speakers present at a session have made a presentation, the Licensing Board reserves the right to terminate the session before the ending times listed above. The Board also reserves the right to cancel the Sunday afternoon and/or Monday evening sessions scheduled above if there has not been a sufficient showing of public interest as reflected by the number of preregistered speakers.

² Any members of the public who plan to attend either the evidentiary hearings or the limited appearance sessions are advised that security measures may be employed at the entrance to the hearing facility, including searches of hand-carried items such as briefcases or backpacks. Also, during the limited appearance sessions, signs no larger than 18″ by 18″ will be permitted, but may not be attached to sticks, held up, or moved about in the rooms.

The time allotted for each statement normally will be no more than five minutes, but may be further limited depending on the number of written requests to make an oral statement that are submitted in accordance with section D below and/or the number of persons present at the designated times. In addition, although an individual who has previously addressed the Licensing Board at a limited appearance session, including the January 12, 2005 sessions in Eunice, New Mexico or, in the case of the Monday evening session, the Sunday afternoon session, may request an opportunity to make an additional presentation, the Board reserves the right to defer such additional presentations until after it has heard from speakers who have not had an opportunity to make an initial presentation.

D. Submitting a Request To Make an Oral Limited Appearance Statement

Persons wishing to make an oral statement who have submitted a timely written request to do so will be given priority over those who have not filed such a request. To be considered timely, a written request to make an oral statement must either be mailed, faxed, or sent by e-mail so as to be received by 5 p.m. Eastern Standard Time on Wednesday, February 22, 2006. The request must specify the session (Sunday or Monday) during which the requester wishes to make an oral statement. Based on its review of the requests received by February 22, 2006, the Licensing Board may decide that the Sunday afternoon and/or Monday evening sessions will not be held due to a lack of adequate interest in those sessions.

Written requests to make an oral statement should be submitted to:

Mail: Office of the Secretary, Rulemakings and Adjudications Staff, U.S. Nuclear Regulatory Commission, Washington, DC 20555-0001.

Fax: (301) 415-1101 (verification (301) 415-1966).

E-mail: hearingdocket@nrc.gov.

In addition, using the same method of service, a copy of the written request to make an oral statement should be sent to the Chairman of this Licensing Board as follows:

Mail: Administrative Judge G. Paul Bollwerk, III, Atomic Safety and Licensing Board Panel, Mail Stop T-3 F23, U.S. Nuclear Regulatory Commission, Washington, DC 20555-0001.

Fax: (301) 415-5599 (verification (301) 415-6094).

E-mail: emp1@nrc.gov and gpb@nrc.gov.

E. Submitted Written Limited Appearance Statements

A written limited appearance statement may be submitted to the Board regarding this proceeding at any time. Such statements should be sent to the Office of the Secretary using the methods prescribed above, with a copy to the Licensing Board Chairman.

F. Availability of Documentary Information Regarding the Proceeding

Documents relating to this proceeding are available for public inspection at the Commission's Public Document Room (PDR), located at One White Flint North, 11555 Rockville Pike (first floor), Rockville, Maryland, or electronically from the publicly available records component of NRC's document system (ADAMS). ADAMS is accessible from the NRC Web site at http://www.nrc.gov/reading-rm/adams.html (the Public Electronic Reading Room).³ Persons who do not have access to ADAMS or who encounter problems in accessing the documents located in ADAMS should contact the NRC PDR reference staff by telephone at (800) 397-4209 or (301) 415-4737, or by e-mail to pdr@nrc.gov.

³ Some documents determined by the staff to contain “sensitive” information are publicly available only in redacted form; non-sensitive documents are publicly available in their complete form. In addition, some documents that may contain information proprietary to LES are publicly available only in redacted form.

G. Scheduling Information Updates

Any updated/revised scheduling information regarding the evidentiary hearing and limited appearance sessions can be found on the NRC Web site at http://www.nrc.gov/public-involve/public-meetings/index.cfm or by calling (800) 368-5642, extension 5036, or (301) 415-5036.

Dated: January 26, 2006; Rockville, Maryland.
For the Atomic Safety and Licensing Board.⁴
⁴ Copies of this notice were sent this date by Internet e-mail transmission to counsel for (1) applicant LES; (2) intervenors Nuclear Information and Resource Service/Public Citizen; (3) the New Mexico Environment Department and the Attorney General of New Mexico; and (4) the staff.
G. Paul Bollwerk, III,
Administrative Judge.

[FR Doc. E6-1324 Filed 1-31-06; 8:45 am]

BILLING CODE 7590-01-P